DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before October 28, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

1. Title: Employer's Quarterly Federal Tax Return.

OMB Control Number: 1545-0029.

Type of Review: Revision of a currently approved collection.

Description: Form 941 is used by employers to report payments made to employees subject to income and social security/Medicare taxes and the amounts of these taxes. Form 941-PR is used by employers in Puerto Rico to report social security and Medicare taxes only. Form 941-SS is used by employers in the U.S. possessions to report social security and Medicare taxes only. Schedule B is used by employers to record their employment tax liability. The Form 8974 was developed to determine the portion of the elected amount that can be claimed for the quarter on the Form 941. The new Form 7200, Advance Payment of Employer Credits Due to COVID-19, is used to request an advance payment of the tax credits for qualified sick and qualified family leave wages, and the employee retention credit. There has been an increase in burden with the addition of new Form 7200, Advance of Employer Credit for Qualified Sick and Family Leave Wages and changes to the Form 941 and schedules, due to the implementation of Division G of Public Law 116-127, the Families First Coronavirus Response Act (the “Act”) addressing the economic disruption stemming from the Novel (new) Coronavirus (“2019-nCoV”) global pandemic.

Form Numbers: 941, 941-PR, 941-SS, 941-X, 941-X(PR), Schedule B (Form 941), Schedule B (Form 941-PR), Schedule R (Form 941), 941-SS-V, 941- V, 941-X, 941-X(PR), 7200.

Affected Public: Businesses and other for-profit organizations, Individuals or Households, Not-For-Profit Institutions, and Federal, State, Local, or Tribal governments.

Estimated Number of Respondents: 40,361,546.

Frequency of Response: Quarterly.

Estimated Total Number of Annual Responses: 40,361,546.

Estimated Time per Response: 14 hours, 23 minutes.

Estimated Total Annual Burden Hours: 580,656,074 hours.

2. Title: Internal Revenue Code Section 6324A Lien Agreement Form.

OMB Control Number: 1545-0757.

Type of Review: Extension without change of a currently approved collection.

Description: Internal Revenue Code section 6324A permits the executor of a decedent's estate to elect a lien on section 6166 property in favor of the United States in lieu of a bond or personal liability if an election under section 6166 was made and the executor files an agreement under section 6324A(c). This guidance clarifies the procedures for complying with the statutory requirements.

Form: IRS Form 13925.

Affected Public: Individuals or Households.

Estimated Number of Respondents: 500.

Frequency of Response: Annually.

Estimated Total Number of Annual Responses: 500.

Estimated Time per Response: 1 hour.

Estimated Total Annual Burden Hours: 500 hours.

3. Title: Annual Certification for Multiemployer Defined Benefit Plans.

OMB Control Number: 1545-2111.

Type of Review: Existing collection in use without an OMB control number.

Description: Section 432(b)(3)(A) requires an actuarial certification of whether a multiemployer plan is in endangered status, and whether a multiemployer plan is or will be in critical status, for each plan year. This certification must be completed by the 90th day of the plan year and must be provided to the Secretary of the Treasury and to the plan sponsor. If the certification is with respect to a plan year that is within the plan's funding improvement period or rehabilitation period arising from a prior certification of endangered or critical status, the actuary must also certify whether the plan is making scheduled progress in meeting the requirements of its funding improvement or rehabilitation plan. Actuaries submit certifications in various formats and lengths. The creation of an established form would limit the submissions to the information required within an annual certification, reducing the burden to all those affected.

Regulation Project Number: REG-151135-07.

Affected Public: Not-for-profit institutions, business or other for-profit institutions.

Estimated Number of Respondents: 1,200.

Frequency of Response: Annually.

Estimated Total Number of Annual Responses: 1,200.

Estimated Time per Response: 45 minutes.

Estimated Total Annual Burden Hours: 900 hours.

Authority: 44 U.S.C. 3501 et seq.

Dated: September 22, 2020.
Spencer W. Clark,
Treasury PRA Clearance Officer.

[FR Doc. 2020-21287 Filed 9-25-20; 8:45 am]

BILLING CODE 4830-01-P